DEPARTMENT OF HEALTH AND HUMAN SERVICES

Agency for Healthcare Research and Quality

Meeting of the National Advisory Council for Healthcare Research and Quality

AGENCY: Agency for Healthcare Research and Quality (AHRQ), HHS.

ACTION: Notice of public meeting.

SUMMARY: This notice announces a meeting of the National Advisory Council for Healthcare Research and Quality.

DATES: The meeting will be held on Friday, March 16, 2018, from 11:00 a.m. to 1:00 p.m. (EST).

ADDRESSES: The meeting will be held virtually (via WebEx).

FOR FURTHER INFORMATION CONTACT: Jaime Zimmerman, Designated Management Official, at the Agency for Healthcare Research and Quality, 5600 Fishers Lane, Mail Stop 06E37A, Rockville, Maryland, 20857, (301) 427-1456. For press-related information, please contact Alison Hunt at (301) 427-1244 or at Alison.Hunt@ahrq.hhs.gov. Closed captioning will be provided during the WebEx. If another accommodation for a disability is needed, please contact the Food and Drug Administration (FDA) Office of Equal Employment Opportunity and Diversity Management on (301) 827-4840, no later than Friday, March 9, 2018.

SUPPLEMENTARY INFORMATION:

I. Purpose

The National Advisory Council for Healthcare Research and Quality is authorized by Section 941 of the Public Health Service Act, 42 U.S.C. 299c. In accordance with its statutory mandate, the Council is to advise the Secretary of the Department of Health and Human Services and the Director of AHRQ on matters related to AHRQ's conduct of its mission including providing guidance on (A) priorities for health care research, (B) the field of health care research including training needs and information dissemination on health care quality and (C) the role of the Agency in light of private sector activity and opportunities for public private partnerships. The Council is composed of members of the public, appointed by the Secretary, and Federal ex-officio members specified in the authorizing legislation.

II. Agenda

On Friday, March 16, 2018, the Council meeting will convene via WebEx at 11:00 a.m. (EST), with the call to order by the Council Chair and approval of previous Council summary notes. The agenda will include an update by the AHRQ Director and an update on the Healthcare Cost and Utilization Project (HCUP) new release of county level statistics on hospital stays for alcohol, opioids, and other drugs. The meeting is open to the public. For information regarding how to access the WebEx as well as other meeting details, please go to https://www.ahrq.gov/news/events/nac/.

Karen J. Migdail,
Chief of Staff.

[FR Doc. 2018-03926 Filed 2-26-18; 8:45 am]

BILLING CODE 4160-90-P